DEPARTMENT OF JUSTICE

Notice of Lodging of Proposed Consent Judgments Under The Comprehensive Environmental Response, Compensation, and Liability Act

On April 9, 2021, the Department of Justice lodged two proposed Consent Judgments with the United States District Court for the Eastern District of New York in a lawsuit entitled United States v. IMC Eastern Corp. and Island Transportation Corp., Civil Action No. 18-3818.

In this action, the United States seeks, as provided under the Comprehensive Environmental Response, Compensation, and Liability Act (“CERCLA”), recovery of response costs from two parties regarding the New Cassel/Hicksville Groundwater Contamination Superfund Site in the Towns of Hempstead, North Hempstead, and Oyster Bay, in Nassau County, New York (“the Site”). The proposed Consent Judgments resolve the United States' claims against IMC Eastern Corp. and Island Transportation Corp. (the “Settling Parties”) for past response costs at the Site.

Under the proposed Consent Judgments, the Environmental Protection Agency (“EPA”) will receive $1,000,000 from IMC Eastern Corp. and $687,500 from Island Transportation Corp. The settlements provide, in exchange for the above payments, a covenant not to sue by EPA or to take administrate action against the Settling Parties pursuant to Sections 106 and 107(a) of CERCLA, 42 U.S.C. 9606 and 9607(a), regarding the Site; 570 Main Street, Westbury, New York (with respect to IMC Eastern Corp.); and 299 Main Street, Westbury, New York (with respect to Island Transportation Corp.).

The proposed Consent Judgments provide each of the two Settling Parties with protection from contribution claims as provided by Section 113(f)(2) of CERCLA, 42 U.S.C. 9613(f)(2), for the matters addressed by the settlements. The proposed Consent Judgments further request dismissal of all outstanding third- and fourth-party contribution claims filed in United States v. IMC Eastern Corp. and Island Transportation Corp., Civil Action No. 18-3818.

The publication of this notice opens a period for public comment on the proposed Consent Judgments. Comments should be addressed to the Assistant Attorney General, Environment and Natural Resources Division, and should refer to United States v. IMC Eastern Corp. and Island Transportation Corp., Civil Action No. 18-3818, D.J. Ref. No. 90-11-3-11089/1. All comments must be submitted no later than 30 days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Judgments may be examined and downloaded at this Justice Department website: https://www.justice.gov/enrd/consent-decrees. We will provide paper copies of the Consent Judgments upon written request and payment of reproduction costs. Please mail your request and payment to: Consent Decree Library, U.S. DOJ—ENRD, P.O. Box 7611, Washington, DC 20044-7611.

Please enclose a check or money order for $9.00 (25 cents per page reproduction cost) payable to the United States Treasury.

Henry Friedman,
Assistant Section Chief, Environmental Enforcement Section, Environment and Natural Resources Division.

[FR Doc. 2021-07629 Filed 4-13-21; 8:45 am]

BILLING CODE 4410-15-P